DEPARTMENT OF DEFENSE

Defense Acquisition Regulations System

48 CFR Parts 205, 212, 214, 215, and 237

[Docket DARS-2024-0001]

Defense Federal Acquisition Regulation Supplement; Technical Amendments

AGENCY: Defense Acquisition Regulations System, Department of Defense (DoD).

ACTION: Final rule; technical amendment.

SUMMARY: DoD is amending the Defense Federal Acquisition Regulation Supplement (DFARS) to make needed editorial changes.

DATES: Effective October 10, 2024.

FOR FURTHER INFORMATION CONTACT: Ms. Jennifer D. Johnson, Defense Acquisition Regulations System, telephone 703-717-8226.

SUPPLEMENTARY INFORMATION: This final rule amends the DFARS to make needed editorial changes to add pointers to new text in DFARS Procedures, Guidance, and Information and to remove and reserve a section containing a pointer to DFARS Procedures, Guidance, and Information, which is no longer needed.

List of Subjects in 48 CFR Parts 205, 212, 214, 215, and 237

Government procurement.

Jennifer D. Johnson,
Editor/Publisher, Defense Acquisition Regulations System.

Therefore, the Defense Acquisition Regulations System amends 48 CFR parts 205, 212, 214, 215, and 237 as follows:

1. The authority citation for 48 CFR parts 205, 212, 214, 215, and 237 continues to read as follows:

Authority: 41 U.S.C. 1303 and 48 CFR chapter 1.

PART 205—PUBLICIZING CONTRACT ACTIONS

2. Add subpart 205.1 to read as follows:

Subpart 205.1—Dissemination of Information
Sec.
205.102 Availability of solicitations.
205.102-70 Availability of DoD solicitations.

Subpart 205.1—Dissemination of Information

205.102 Availability of solicitations.

205.102-70 Availability of DoD solicitations.

See PGI 205.102-70 for policy and procedures related to the Solicitation Module within the Procurement Integrated Enterprise Environment.

PART 212— ACQUISITION OF COMMERCIAL PRODUCTS AND COMMERCIAL SERVICES

3. Amend section 212.203 by adding paragraph (6) to read as follows:

212.203 Procedures for solicitation, evaluation, and award.

* * * * *

(6) See the procedures at PGI 205.102-70 for use of the Solicitation Module within the Procurement Integrated Enterprise Environment.

PART 214—SEALED BIDDING

4. Add section 214.203 to read as follows:

214.203 Methods of soliciting bids.

See the procedures at PGI 205.102-70 for use of the Solicitation Module within the Procurement Integrated Enterprise Environment.

PART 215—CONTRACTING BY NEGOTIATION

5. Add section 215.205 to read as follows:

215.205 Issuing solicitations.

See the procedures at PGI 205.102-70 for use of the Solicitation Module within the Procurement Integrated Enterprise Environment.

PART 237—SERVICE CONTRACTING

237.102-77 [Removed and Reserved]

6. Remove and reserve section 237.102-77.

[FR Doc. 2024-23228 Filed 10-9-24; 8:45 am]

BILLING CODE 6001-FR-P